NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to these permit applications by September 26, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 94-541), has developed regulations that implement the “Agreed Measures for the Conservation of Antarctic Fauna and Flora” for all United States citizens. The Agreed Measures, developed by the Antarctic Treaty Consultative Parties, recommended establishment of a permit system for various activities in Antarctica and designation of certain animals and certain geographic areas requiring special protection. The regulations establish such a permit system to designate Specially Protected Areas and Sites of Special Scientific Interest.

The applications received are as follows:

1. Applicant; Permit Application No. 2002-007

Rennie S. Holt, Director, U.S. AMLR Program, Southwest Fisheries Science Center, National Marine Fisheries Service, 8604 La Jolla Shores Drive, La Jolla, CA 92038

Activity for Which Permit Is Requested

Take, Import into the U.S.A., and Enter Specially Antarctic Protected Area. The applicant proposes to conduct ship-supported and land-based penniped studies in the region of the Antarctic Peninsula as a continuation of studies conducted from 1996-2001. Continuing studies encompassing census surveys, attendance, diving, foraging, diet, age determination, pathology, and long term monitoring (censusing/tagging) of Antarctic fur seals, Elephant, Crabeater, Leopard, Weddell, and Ross seals will be conducted at the AMLR Program campsite at Cape Shirreff, Livingston Island (Antarctic Specially Protected Area #149), including the San Telmo Islands. A compete census of the seal population will be conducted as well as tagging of up to 600 new fur seal pups. Attendance, diving and foraging studies will require instrumentation (TDR's) of up to 60 fur sales. Enema, scat and milk collection will be used to study the diet behavior of fur seals throughout the austral summer. Blood and other tissue samples will be collected to initiate pathology studies since prior sample collection detected the presence of Brucellis within the fur seal population.

The application also proposes to continue seabird research conducted in the past. The studies will include censuses and banding of all sea birds. A subset of chinstrap and Gentoo penguins will be captured, and weighed. A subset of adult penguins will have blood and stomach samples collected, where as others will have instruments temporarily attached to collect diving/foraging information in an attempt to examine the population dynamics of these species. All collected samples will be returned to the Southwest Fisheries Science Center for processing and analysis.

In addition the applicant proposes to salvage bones and carcasses of dead seals and other cetacean species found on shore for importation to the U.S. These materials will be stored at the Southwest Fisheries Science Center for educational and research to purposes.

Location: Cape Shirreff, Livingston Island (ASPA #149) and the Antarctic Peninsula region

Dates: November 15, 2001 to April 15, 2006

2. Applicant; Permit Application No. 2002-008

Vickie Usher Russell, CNN Producer, 132 Geneva Street, Decatur, GA 30030

Activity for Which Permit Is Requested

Enter Antarctic Specially Protected Areas. The applicant will be filming a TV documentary for CNN showcasing the exciting scientific research and remarkable and demanding working conditions scientists and support personnel endure in Antarctica. The team proposes to film research conducted in the field and therefore proposes to enter Cape Royds penguin rookery (ASPA #121) to film scientists working with the penguins. In addition the documentary team proposes to focus some attention on the early Antarctic explorers and proposes to film as many of the Ross Island historic huts as possible. Therefore they plan to enter and film at Shackleton's Hut a Backdoor Bay, Cape Royds (ASPA #156), Scott's Terra Nova Hut, Cape Evans (ASPA #154), and Scott's Discovery Hut, Hut Point, Ross Island (ASPA #157). The documentary hopes to bring the excitement and mystery of Antarctica to viewers who might never have a chance to view it themselves.

Location:

Cape Royds penguin rookery (ASPA #121)

Scott's Terra Nova Hut, Cape Evans, Ross Island (ASPA #154)

Shackleton Hut at Backdoor Bay, Cape Royds, Ross Island (ASPA #156)

Scott's Discovery Hut, Hut Point, Ross Island (ASPA #157).

Dates: December 1, 2001 to February 28, 2002.

3. Applicant; Permit Application No. 2002-009

Terry J. Wilson, Department of Geological Sciences, Ohio State University, 155 S. Oval Mall, Columbus, OH 43210

Activity for Which Permit Is Requested

Enter Antarctic Specially Protected Area. The applicant proposes to study the structure of volcanoes and volcanic cinder cones in Northern Victoria Land. Part of the study area falls within Antarctic Specially Protect Area #159, the Summit of Mt. Melbourne, which the applicant proposes to enter. The study requires aerial observation and photography of all volcanic vents and cones within the area. Overflight of the site will be by helicopter at an elevation equal to or greater than ~1500 meters. Two short-duration landings are needed for ground observations to confirm mapping of the volcanic structures. The landing sites will be selected on glacial ice in-filling the caldera thereby avoiding any sensitive areas. All work in the area will be completed within one day.

Location: Summit of Mt Melbourne—ASPA #159

Dates: November 1, 2001 to January 10, 2002

4. Applicant; Permit Application No. 2002-010

Terry J. Wilson, Department of Geological Sciences, Ohio State University, 155 S. Oval Mall, Columbus, OH 43210

Activity for Which Permit Is Requested

Enter Antarctic Specially Protected Area. The applicant proposes to enter Cape Crozier, Antarctic Specially Protected Area #124, for the purpose of collecting samples from volcanic vents for age dating. The volcanic cones to be sampled lie partially within the ASPA at the Knoll near the southwest corner of the site, and Post Office Hill at the apex of the boundary of the northern portion of the ASPA. Access to the site will be via helicopter landing at the site designated by the Management Plan. The applicant proposes to be in the site for only a couple hours.

Location: Cape Crozier, Ross Island—ASPA #124

Dates: November 25, 2001 to February 10, 2001

5. Applicant; Permit Application No. 2002-011

Robert A. Blanchette, Department of Plant Pathology, University of Minnesota, St. Paul, MN 55108-6030

Activity for Which Permit Is Requested

Enter Antarctic Specially Protected Area and Import into the U.S.A. The applicant is working on a cooperative project with the Antarctic Heritage Trust (AHT) to help preserve the historic huts and artifacts in the Ross Sea region. Over the past 9-10 decades significant deterioration has occurred within the huts and on many historic artifacts. To prevent further degradation and to develop successful control strategies, the applicant proposes to enter the historic huts at Cape Evans (ASPA #154), Cape Royds (ASPA #156), Hut Point (ASPA #157), and Cape Adare (ASPA #158) to conduct basic scientific investigations to better understand the deterioration taking place in this polar environment. Areas of deterioration will be sampled in and around the huts, as well as assessing the damage from mold growth on hut interiors, and historical chemical and fuel spills. Wood and soil samples will be collected and returned to the U.S. for further analysis. The applicant proposes to salvage bones or feathers that may be contained in the soil samples.

Location:

Historic huts and environs at Cape Evans (ASPA #154), Cape Royds (ASPA #156), Hut Point (ASPA #157), and Cape Adare (ASPA #158—McMurdo Sound, Ross Island and Ross Sea vicinity.

Dates: December 1, 2001 to March 1, 2003

6. Applicant; Permit Application No. 2002-012

Thomas W. Yelvington, President, Raytheon Polar Services Company, 61 Inverness Drive East, Suite 300, Englewood, CO 80112

Activity for Which Permit Is Requested

Enter Antarctic Specially Protected Area. Hallett Station was jointly operated and occupied by the U.S. and New Zealand from 1957 to 1973, primarily for the study of geophysics and later for biological studies of the Adelie penguin population. Last season an Environmental Site Assessment was conducted indicating a need for a multi-year remediation program to bring closure of Hallett Station into full compliance with the Protocol on the Environmental Protection to the Antarctic Treaty. In a joint effort with the New Zealand program, participants will camp in the vicinity of old Hallett Station while conducting the remediation program. The initial phase will involve fencing off areas of petroleum contaminated surface water and soil which have been identified as posing the greatest threat to the penguin population at Cape Hallett. During this multi-year remediation project, the applicant proposes to enter Antarctic Specially Protected Area #106 for the purposes of collecting glacial ice for making water for the nearby camp. Entry into the Protected Area will be kept to a minimum.

Location: Cape Hallett, Victoria Land—ASPA #106

Dates: October 1, 2001 to April 15, 2006

7. Applicant; Permit Application No. 2002-013

John T. Lisle, Lockheed Martin, NASA Road One, Mail Stop C23, Houston, TX 77058

Activity for Which Permit Is Requested

Import Non-Indigenous Species into Antarctica. The applicant proposes to introduce into Antarctica the two samples each of the following commercial bacterial cultures: E. coli, Staphylococcus aureus, Pseudomonas stutzeri, Acinetobacter calcoacetius, Enterococcus aerogenes, and Clostridium perfingens. These bacterial cultures will be used as quality controls when performing assays. The assays include isolation and enumeration of fecal coliform, fecal enteroccocci, and fecal associated Clostridium perfringens. The applicant will also perform standard plasmid transfer experiments using several of the bacterial cultures. The control cultures are necessary, as the conditions under which the experiments are performed are extremely cold and a method to ensure the assays are performing correctly under Antarctic conditions is critical for data to be considered valid. All plasmid transfer experiments will be conducted within a contained system in the laboratory at McMurdo Station. All cultures and samples will be bleached and autoclaved before disposing of the material into the biohazard waste stream at McMurdo Station for removal/retrograde from the continent.

Location: McMurdo Station, Antarctica

Dates: October 1, 2001 to November 30, 2001

8. Applicant; Permit Application No. 2002-014

Robert Semper, Exploratorium, 3601 Lyon Street, San Francisco, CA 94123

Activity for Which Permit Is Requested

Enter Antarctic Specially Protected Areas. The applicant proposes to enter several Antarctic Specially Protected Areas for the purpose of filming scientific research in the field and document the historic huts in the Ross Island vicinity. The applicant proposes to enter the Cape Royds penguin rookery (ASPA 121) to film researchers working with Adelie penguins. In addition, the applicant proposes to enter and film the historic huts and environs at Cape Evans (ASPA 154), Cape Royds (ASPA 156), and Discovery Hut at Hut Point (ASPA #157). The film project is an effort to create a different approach to telling the story of basic scientific research and the infrastructure it takes to support it to a vast audience of museum and online visitors. Viewers, by means of a webcast, will have the opportunity to metaphorically look over the shoulder of scientists as they work in the field or laboratory. In addition, filming the huts will add the element of history and adventure for those who are not normally interested in scientific activities.

Location:

Cape Royds penguin rookery, Ross Island—ASPA #121

Scott's Terra Nova Hut, Cape Evans, Ross Island—ASPA #154

Shackleton's Hut at Backdoor Bay, Cape Royds, Ross Island—ASPA #156

Scott's Discovery Hut, Hut Point, Ross Island—ASPA #157

Dates: November 1, 2001 to January 31, 2002

Nadene G. Kennedy,
Permit Officer, Office of Polar Programs.

[FR Doc. 01-21795 Filed 8-28-01; 8:45 am]

BILLING CODE 7555-01-M